DEPARTMENT OF TRANSPORTATION

Federal Aviation Administration

14 CFR Part 39

[Docket No. FAA-2004-19928; Directorate Identifier 2004-NE-27-AD]

RIN 2120-AA64

Airworthiness Directives; CFM International (CFMI) CFM56-5, -5A, -5B, and -5C Series Turbofan Engines

AGENCY: Federal Aviation Administration (FAA), DOT.

ACTION: Notice of proposed rulemaking (NPRM).

SUMMARY: The FAA proposes to adopt a new airworthiness directive (AD) for CFM International (CFMI) CFM56-5, -5A, -5B, and -5C series turbofan engines. This proposed AD would require removing certain part number (P/N) air turbine starters from service. This proposed AD results from several reports of failures of uncontained air turbine starters where high-energy particles were not contained within the containment feature of the starter. We are proposing this AD to prevent uncontained failures of air turbine starters, which could result in damage to the airplane.

DATES: We must receive any comments on this proposed AD by February 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, S.W., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

Contact CFM International, Technical Information Operation, One Neumann Way, Cincinnati; OH 45215-1988 for the service information identified in this proposed AD.

FOR FURTHER INFORMATION CONTACT: James Rosa, Aerospace Engineer, Engine Certification Office, FAA, Engine and Propeller Directorate, 12 New England Executive Park, Burlington, MA 01803-5299; telephone (781) 238-7152; fax (781) 238-7199.

SUPPLEMENTARY INFORMATION:

Comments Invited

We invite you to submit any written relevant data, views, or arguments regarding this proposal. Send your comments to an address listed under ADDRESSES. Include “Docket No. FAA-2004-19928; Directorate Identifier 2004-NE-27-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Direction Generale de L'Aviation Civile (DGAC), which is the airworthiness authority for France, notified us that an unsafe condition may exist on CFMI CFM56-5, -5A, -5B, and -5C series turbofan engines. The DGAC advises that several uncontained failures of certain P/N air turbine starters where high-energy particles were not contained within the containment feature of the starter have occurred. This proposed AD would require removing the affected air turbine starters from service. This condition, if not corrected, could result in uncontained failures of air turbine starters, which could result in damage to the airplane.

Relevant Service Information

We have reviewed and approved the technical contents of:

• CFMI Service Bulletin (SB) No. (CFM56-5) 80-0018, Revision 1, dated November 26, 2003.

• CFMI SB No. (CFM56-5) 80-0020, Revision 1, dated November 26, 2003.

• CFMI SB No. (CFM56-5B) 80-0011, Revision 1, dated November 26, 2003.

• CFMI SB No. (CFM56-5C) 80-0013, Revision 1, dated November 26, 2003.

These service bulletins describe procedures for removal of the air turbine starter. The DGAC classified these service bulletins as mandatory and issued airworthiness directive AD F-2003-456, Revision 2, dated September 29, 2004 in order to ensure the airworthiness of these CFMI CFM56-5, -5A, -5B, and -5C series turbofan engines in France.

Differences Between This Proposed AD and the Manufacturer's Service Information

The manufacturer's service information requires compliance with the proposed requirements of this AD at the next shop visit of the engine or the next air turbine starter shop visit. This proposed AD only requires compliance at the next air turbine starter shop visit.

FAA's Determination and Requirements of the Proposed AD

These turbofan engines, manufactured in France, are type-certificated for operation in the United States under the provisions of section 21.29 of the Federal Aviation Regulations (14 CFR 21.29) and the applicable bilateral airworthiness agreement. In keeping with this bilateral airworthiness agreement, the DGAC kept us informed of the situation described above. We have examined the DGAC's findings, reviewed all available information, and determined that AD action is necessary for products of this type design that are certificated for operation in the United States. We are proposing this AD, which would require removing certain P/N air turbine starters from service at the next turbine starter shop visit, but no later than December 31, 2009.

Costs of Compliance

There are about 3,579 CFMI CFM56-5, -5A, -5B, and -5C series turbofan engines of the affected design in the worldwide fleet. We estimate that this proposed AD would affect 600 air turbine starters installed on airplanes of U.S. registry. We also estimate that it would take about 1 work hour per engine to perform the proposed actions, and that the average labor rate is $65 per work hour. Required parts would cost about $5,000 per air turbine starter. Based on these figures, we estimate the total cost of the proposed AD to U.S. operators to be $3,039,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

CFM International (CFMI): Docket No. FAA-2004-19928; Directorate Identifier 2004-NE-27-AD.

Comments Due Date

(a) The Federal Aviation Administration (FAA) must receive comments on this airworthiness directive (AD) action by February 28, 2005.

Affected ADs

(b) None.

Applicability

(c) This AD applies to CFMI CFM56-5, -5A, -5B, and “5C series turbofan engines with air turbine starters, part numbers (P/Ns) VIN 3505582-24 (301-807-004-0), VIN 3505582-25 (301-807-005-0), VIN 3505582-40 (301-781-203-0), VIN 3505582-41 (301-806-602-0), VIN 3505582-42 (301-806-802-0), VIN 3505582-60 (301-790-903-0), VIN 3505582-61 (301-806-702-0), and VIN 3505582-62 (301-806-902-0), installed. These engines are installed on, but not limited to, Airbus A319, A320, A321, and A340 airplanes.

Unsafe Condition

(d) This AD results from several reports of failures of uncontained air turbine starters where high-energy particles were not contained within the containment feature of the starter. We are issuing this AD to prevent uncontained failures of air turbine starters, which could result in damage to the airplane.

Compliance

(e) You are responsible for having the actions required by this AD performed within the compliance times specified unless the actions have already been done.

Removing Air Turbine Starters

(f) At the next air turbine starter shop visit, but no later than December 31, 2009, remove any air turbine starter, that has a P/N specified in this AD, from service.

Prohibition of Air Turbine Starters Not Reworked or Remarked

(g) After the effective date of this AD, do not install any air turbine starters, that have a P/N specified in this AD, into any engine.

Alternative Methods of Compliance

(h) The Manager, Engine Certification Office, has the authority to approve alternative methods of compliance for this AD if requested using the procedures found in 14 CFR 39.19.

Related Information

(i) The following documents also pertain to the subject of this AD:

(1) Direction Generale de L'Aviation Civile (DGAC) AD F-2003-456, Revision 2, dated September 29, 2004.

(2) CFM International (CFMI) Service Bulletin (SB) No. (CFM56-5) 80-0018, Revision 1, dated November 26, 2003.

(3) CFMI SB No. (CFM56-5) 80-0020, Revision 1, dated November 26, 2003.

(4) CFMI SB No. (CFM56-5B) 80-0011, Revision 1, dated November 26, 2003.

(5) CFMI SB No. (CFM56-5C) 80-0013, Revision 1, dated November 26, 2003.

Issued in Burlington, Massachusetts, on December 16, 2004.
Francis A. Favara,
Acting Manager, Engine and Propeller Directorate, Aircraft Certification Service.

[FR Doc. 04-28384 Filed 12-27-04; 8:45 am]

BILLING CODE 4910-13-P